DEPARTMENT OF JUSTICE

Notice of Lodging of Consent Decree Under the Comprehensive Environmental Responses, Compensation, and Liability Act and the Solid Waste Disposal Act

Notice is hereby given that a proposed consent decree in United States and State of California Department of Toxic Substances Control v. J.H. Mitchell & Sons Distributors, Inc. and Screwmatic, Inc., Civil No. 02-03009 CAS (RZx) (C.D. Cal.), was lodged on April 11, 2002, with the United States District Court for the Central District of California.

This consent decree represents a settlement of claims brought against J.H. Mitchell & Sons Distributors, Inc. (“J.H. Mitchell”) and Screwmatic, Inc. (“Screwmatic”) pursuant to the Comprehensive Environmental Response, Compensation, and Liability Act (“CERCLA”), 42 U.S.C. 9601-9675, and Section 7003 of the Solid Waste Disposal Act, as amended by the Resource Conservation and Recovery Act of 1976 and the Hazardous and Solid Waste Amendments of 1984 (collectively “RCRA”), 42 U.S.C. 6973. In the complaint filed concurrently with the lodging of the consent decree, the United States and the State of California Department of Toxic Substances Control (“DTSC”) sought injunctive relief for performance of response actions under CERCLA section 106, 42 U.S.C. 9606, and RCRA Section 7003, 42 U.S.C. 6973, and reimbursement for response costs under CERCLA section 107, 42 U.S.C. 9607, incurred by the United States Environmental Protection Agency (“EPA”), the United States Department of Justice (“DOJ”), and DTSC, in response to releases of hazardous substances at the Baldwin Park Operating Unit of the San Gabriel Valley Superfund Sites, Areas 1-4, located in and near the cities of Azusa, Irwindale, Baldwin Park, and Covina in Los Angeles County, California.

The proposed consent decree requires J.H. Mitchell to pay $516,000 to the United States for response costs incurred by EPA and DOJ, and to pay $84,000 to DTSC for response costs incurred by DTSC. Screwmatic is required to pay $860,000 to the United States and $140,000 to DTSC. The proposed consent decree includes a covenant-not-to-sue under sections 106 and 107 of CERCLA, 42 U.S.C. 9606, 9607, and under section 7003 of RCRA, 42 U.S.C. 6973.

The Department of Justice will receive comments relating to the proposed consent decree for a period of thirty (30) days from the date of this publication. Comments should be addressed to the Assistant Attorney General, Environment and Natural Resources Division, U.S. Department of Justice, P.O. Box 7611, Washington, DC 20044-7611, and should refer to United States and the State of California Department of Toxic Substances Control v. J.H. Mitchell & Sons Distributors, Inc. and Screwmatic, Inc., DOJ Ref. #90-11-2-354/6. Please send a copy of the comments to Robert D. Mullaney, U.S. Department of Justice, 301 Howard St., Suite 1050, San Francisco, CA 94105. Commenters may request an opportunity for a public meeting in the affected area, in accordance with section 7003(d) of RCRA, 42 U.S.C. 6973(d).

The proposed consent decree may be examined at the Region IX Office of the Environmental Protection Agency, 75 Hawthorne Street, San Francisco, CA 94105. A copy of the proposed Consent Decree may also be obtained by mail from the Consent Decree Library, U.S. Department of Justice, P.O. Box 7611, Washington, DC 20044-7611, or by faxing a request to Tonia Fleetwood, Department of Justice Consent Decree Library, fax no. (202) 514-0097; phone confirmation no. (202) 514-1547. There is a charge for the copy (25 cent per page reproduction cost). In requesting a copy, please enclose a check, payable to the “U.S. Treasury,” in the amount of $88.00. (A copy of the decree, exclusive of attachments, may be obtained for $7.50.)

Ellen M. Mahan,
Assistant Section Chief, Environmental Enforcement Section, Environment and Natural Resources Division, United States Department of Justice.

[FR Doc. 02-11546 Filed 5-8-02; 8:45 am]

BILLING CODE 4410-15-M